INTERNATIONAL TRADE COMMISSION

[Investigation No. 337-TA-777]

Certain Muzzle-Loading Firearms and Components Thereof Determination Not To Review an Initial Determination Terminating the Investigation

AGENCY: U.S. International Trade Commission.

ACTION: Notice.

SUMMARY: Notice is hereby given that the U.S. International Trade Commission has determined not to review an initial determination (“ID”) (Order No. 29) issued by the presiding administrative law judge (“ALJ”) on January 10, 2012, granting a joint motion to terminate the investigation as to the last remaining respondents.

FOR FURTHER INFORMATION CONTACT: Jean H. Jackson, Esq., Office of the General Counsel, U.S. International Trade Commission, 500 E Street SW., Washington, DC 20436, telephone (202) 205-3104. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 17, 2011, based on a complaint filed by Thompson/Center Arms Company, Inc. and Smith & Wesson Corp. (“complainants”). 76 FR 35469 (Jun. 17, 2011). The Commission's Notice of Investigation names seven respondents, including Blackpowder Products Inc., Connecticut Valley Arms, and Bergara Barrels North America, all of Duluth Georgia, and Dikar Sociedad Cooperativa Limitada and Bergara Barrels Europe, both of Bergara, Spain (collectively “the BPI respondents”). The complaint alleges violations of section 337 by reason of infringement of U.S. Patent Nos. 7,908,781 (“the `781 patent”); 7,814,694; 7,140,138 (“the `138 patent”); 6,604,311; 5,782,030; and 5,639,981. On July 8, 2011, the ALJ granted complainants' motion to terminate the investigation as to the `781 and `138 patents. Order No. 7 (July 8, 2011). The Commission did not review this determination. Notice of Determination Not to Review (July 22, 2011).

The complainants also filed a motion for temporary relief directed to only respondents Ardesa Firearms (Ardesa) of Zamudio-Vizcaya, Spain and Traditional Sporting Goods, Inc., d/b/a Traditions Sporting Firearms of Old Saybrook, Connecticut (“Traditions”). On August 31, 2011, the ALJ issued an ID denying temporary relief. On November 10, 2011, the Commission determined to review the denial of temporary relief. 76 FR 71354 (November 17, 2011). On review the Commission affirmed the denial of temporary relief based on the ALJ's finding of no irreparable harm and took no position on the other temporary relief factors. Id.

On November 29, 2011, complainants and respondents Ardesa and Traditions filed a joint motion to terminate the investigation based on a settlement agreement. On December 12, 2011, the ALJ granted the motion in Order 26, and the Commission did not review. Notice of Commission Determination Not To Review (January 9, 2012).

On December 23, 2011, complainants and the BPI respondents jointly filed a motion to terminate the investigation with respect to the BPI respondents based on a settlement agreement based on licensing. The Commission investigative attorney supported the motion. The ALJ granted the joint motion on January 10, 2012, finding that the motion met all the requirements of Commission rule 210.21(b) and that termination of the investigation with respect to the BPI respondents did not impose any burdens on the public interest. No petitions for review of the ID were received. There being no other respondents remaining in the investigation, this ID terminates the investigation in its entirety.

No petitions for review of this ID were received, and the Commission has determined not to review the ID.

The authority for the Commission's determination is contained in Section 337 of the Tariff Act of 1930, as amended, (19 U.S.C. 1337), and in section 210.42 of the Commission's Rules of Practice and Procedure (19 CFR 210.42).

Issued: January 31, 2012.
By order of the Commission.
James R. Holbein,
Secretary to the Commission.

[FR Doc. 2012-2447 Filed 2-2-12; 8:45 am]

BILLING CODE 7020-02-P